OFFICE OF PERSONNEL MANAGEMENT

Excepted Service; February 2014

AGENCY: U.S. Office of Personnel Management (OPM).

ACTION: Notice.

SUMMARY: This notice identifies Schedule A, B, and C appointing authorities applicable to a single agency that were established or revoked from February 1, 2014, to February 28, 2014.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

18. Environmental Protection Agency. (Sch. A 213.3118)

24. Board of Governors, Federal Reserve System (Sch. A 213.3124)

(a) All Positions

Schedule B

No Schedule B authorities to report during February 2014.

Schedule C

The following Schedule C appointing authorities were approved during February 2014.

Agency name | Organization name | Position title | Authorization No. | Effective date
ADMINISTRATIVE CONFERENCE OF THE UNITED STATES | Administrative Conference of the United States | Executive Assistant | AA140001 | 2/28/2014
DEPARTMENT OF AGRICULTURE | Office of Communications | Press Secretary | DA140035 | 2/7/2014
DEPARTMENT OF COMMERCE | Office of Executive Secretariat | Confidential Assistant/Editor | DC140052 | 2/5/2014
CONSUMER PRODUCT SAFETY COMMISSION | Office of Commissioners | Special Assistant (Legal) | PS140005 | 2/28/2014
COUNCIL ON ENVIRONMENTAL QUALITY | Council on Environmental Quality | Executive Assistant | EQ140006 | 2/28/2014
DEPARTMENT OF DEFENSE | Office of Assistant Secretary of Defense (Legislative Affairs) | Special Assistant | DD140021 | 2/5/2014
| Washington Headquarters Services | Defense Fellow | DD140022 | 2/5/2014
| Washington Headquarters Services | Defense Fellow | DD140023 | 2/5/2014
| Washington Headquarters Services | Defense Fellow | DD140024 | 2/5/2014
| Office of Assistant Secretary of Defense (Legislative Affairs) | Special Assistant | DD140041 | 2/11/2014
| Office of the Under Secretary of Defense (Policy) | Special Assistant for Asian and Pacific Security Affairs | DD140018 | 2/24/2014
| Office of the Under Secretary of Defense (Personnel and Readiness) | Special Assistant the Under Secretary of Defense (Personnel and Readiness) | DD140020 | 2/24/2014
DEPARTMENT OF EDUCATION | Office of Vocational and Adult Education | Confidential Assistant | DB140031 | 2/3/2014
| Office of the Secretary | Deputy White House Liaison | DB140034 | 2/3/2014
| Office of the Secretary | Confidential Assistant | DB140035 | 2/3/2014
| Office of Legislation and Congressional Affairs | Confidential Assistant | DB140037 | 2/5/2014
| Office of the Secretary | Deputy Chief of Staff for Operations | DB140036 | 2/7/2014
| Office of Postsecondary Education | Special Assistant | DB140038 | 2/11/2014
| Office of Communications and Outreach | Confidential Assistant | DB140040 | 2/20/2014
| Office of Planning, Evaluation and Policy Development | Deputy Assistant Secretary for Planning and Policy Development | DB140041 | 2/25/2014
| Office of the Secretary | Special Assistant | DB140042 | 2/28/2014
DEPARTMENT OF ENERGY | National Nuclear Security Administration | Senior Advisor for Reactors and Nuclear Power Generation | DE140035 | 2/10/2014
| Assistant Secretary for Energy Efficiency and Renewable Energy | Director of Lab Commercialization Impact | DE140037 | 2/10/2014
| Loan Programs Office | Senior Advisor | DE140023 | 2/11/2014
ENVIRONMENTAL PROTECTION AGENCY | Operations Staff | Deputy Director for Scheduling and Advance | EP140014 | 2/4/2014
| Office of the Associate Administrator for Policy | Deputy Associate Administrator for Policy | EP140015 | 2/7/2014
| Office of the Associate Administrator for External Affairs and Environmental Education | Press Secretary | EP140018 | 2/28/2014
EXPORT-IMPORT BANK | Office of Communications | Speechwriter | EB140003 | 2/5/2014
FEDERAL ENERGY REGULATORY COMMISSION | Office of the Chairman | Confidential Assistant | DR140001 | 2/20/2014
DEPARTMENT OF HEALTH AND HUMAN SERVICES | Office of the Secretary | Confidential Assistant | DH140030 | 2/4/2014
| Office of the Assistant Secretary for Public Affairs | Deputy Director for Speechwriting | DH140032 | 2/4/2014
| Office of the Assistant Secretary for Children and Families | Policy Advisor for Early Childhood | DH140033 | 2/4/2014
| Office of the Assistant Secretary for Children and Families | Policy Advisor, Administration for Children and Families | DH140034 | 2/4/2014
| Office of the Assistant Secretary for Health | Director of Communications | DH140042 | 2/28/2014
DEPARTMENT OF HOMELAND SECURITY | Office of the General Counsel | Confidential Assistant | DM140088 | 2/3/2014
| Office of the Under Secretary for National Protection and Programs Directorate | Confidential Assistant | DM140089 | 2/10/2014
| Office of the Assistant Secretary for Policy | Senior Advisor | DM140039 | 2/25/2014
DEPARTMENT OF HOUSING AND URBAN DEVELOPMENT | Office of Sustainable Housing and Communities | Senior Advisor | DU140009 | 2/14/2014
| Office of Housing | Senior Advisor/Chief of Staff | DU140008 | 2/20/2014
DEPARTMENT OF JUSTICE | Civil Rights Division | Senior Counselor | DJ140024 | 2/5/2014
| Office of the Associate Attorney General | Confidential Assistant | DJ140031 | 2/12/2014
DEPARTMENT OF LABOR | Office of Chief Financial Officer | Senior Advisor | DL140014 | 2/7/2014
NATIONAL TRANSPORTATION SAFETY BOARD | Office of Board Members | Special Assistant | TB140002 | 2/24/2014
OFFICE OF SCIENCE AND TECHNOLOGY POLICY | Office of Science and Technology Policy | Policy Advisor | TS140003 | 2/7/2014
SECURITIES AND EXCHANGE COMMISSION | Office of the Chief Operating Officer | Writer-Editor | SE140001 | 2/28/2014
SMALL BUSINESS ADMINISTRATION | Office of Government Contracting and Business Development | Senior Advisor | SB140008 | 2/10/2014
| Office of Entrepreneurial Development | Director of Clusters and Skills Initiatives | SB140011 | 2/12/2014
DEPARTMENT OF STATE | Office of the Under Secretary for Arms Control and International Security Affairs | Special Assistant | DS140060 | 2/10/2014
| Office of the Deputy Secretary for Management and Resources | Senior Advisor | DS140061 | 2/11/2014
| Bureau of International Narcotics and Law Enforcement Affairs | Special Assistant | DS140054 | 2/14/2014
| Office of the Under Secretary for Economic Growth, Energy, and the Environment | Special Assistant | DS140010 | 2/20/2014
| Office of the Chief of Protocol | Protocol Officer | DS140058 | 2/20/2014
| Bureau of Public Affairs | Supervisory Public Affairs Specialist | DS140062 | 2/20/2014
| Bureau of Energy Resources | Special Assistant | DS140063 | 2/20/2014
| Office of International Information Programs | Senior Advisor | DS140056 | 2/25/2014
| Bureau of Public Affairs | Staff Assistant | DS140064 | 2/28/2014
DEPARTMENT OF THE TREASURY | Under Secretary for International Affairs | Special Assistant | DY140045 | 2/20/2014
| Secretary of the Treasury | Counselor to the Secretary | DY140035 | 2/4/2014
DEPARTMENT OF VETERANS AFFAIRS | Office of the General Counsel | Special Assistant | DV140019 | 2/21/2014

The following Schedule C appointing authorities were revoked during February 2014.

Agency name | Organization name | Position title | Authorization No. | Vacate date
DEPARTMENT OF COMMERCE | Office of the Under Secretary | Confidential Assistant and Scheduler to the Under Secretary | DC110136 | 2/9/2014
DEPARTMENT OF ENERGY | Office of Management | Special Assistant | DE120115 | 2/8/2014
| National Nuclear Security Administration | Senior Advisor | DE110115 | 2/9/2014
| Assistant Secretary for Energy Efficiency and Renewable Energy | Chief of Staff Special Advisor | DE130037 DE120113 | 2/3/2014 2/9/2014
| Office of the Secretary | Deputy Director for Outreach and Public Engagement | DE120078 | 2/10/2014
DEPARTMENT OF HOMELAND SECURITY | Office of the Under Secretary for National Protection and Programs Directorate | Confidential Assistant | DM130107 | 2/8/2014
DEPARTMENT OF HOUSING AND URBAN DEVELOPMENT | Office of Housing | Senior Policy Advisor | DU120015 | 2/22/2014
DEPARTMENT OF JUSTICE | Civil Rights Division | Senior Counselor | DJ130013 | 2/8/2014
DEPARTMENT OF THE INTERIOR | Assistant Secretary—Land and Minerals Management | Special Assistant | DI120060 | 2/22/2014
ENVIRONMENTAL PROTECTION AGENCY | Office of the Associate Administrator for External Affairs and Environmental Education | Press Secretary | EP130011 | 2/1/2014
| Operations Staff | Trip Coordinator | EP120010 | 2/8/2014
OFFICE OF THE SECRETARY OF DEFENSE | Office of Assistant Secretary of Defense (Legislative Affairs) | Special Assistant | DD130130 | 2/8/2014

Authority: 5 U.S.C. 3301 and 3302; E.O. 10577, 3 CFR, 1954-1958 Comp., p. 218.

U.S. Office of Personnel Management.
Katherine Archuleta,
Director.

[FR Doc. 2014-08317 Filed 4-11-14; 8:45 am]

BILLING CODE 6325-39-P